DEPARTMENT OF AGRICULTURE

Forest Service

Newspapers Used for Publication of Legal Notices for Pre-Decisional Administrative Review Processes and Decisions Subject to Notice, Comment and Appeal Procedures

AGENCY: Forest Service, USDA.

ACTION: Notice.

SUMMARY: This notice provides the list of newspapers that Responsible Officials in the Pacific Northwest Region will use to publish legal notices for public comment and decisions subject to appeal under 36 CFR part 215 and predecisional objection on decisions under 36 CFR part 218 and 36 CFR part 219. The intended effect of this action is to inform interested members of the public which newspapers will be used to publish legal notices, thereby allowing the public to receive constructive notice of a decision, to provide clear evidence of timely notice, and to achieve consistency in administering appeal and objection processes.

DATES: Publication of legal notices in the listed newspapers begins on November 22, 2013. This list of newspapers will remain in effect until it is superceded by a new list, published in the Federal Register.

FOR FURTHER INFORMATION CONTACT: Jill A. Dufour, Regional Environmental Coordinator, Pacific Northwest Region, 1220 SW. Third Avenue, (P.O. Box 3623), Portland, Oregon 97204.

SUPPLEMENTARY INFORMATION: The newspapers to be used in the Pacific Northwest Region are as follows:

Pacific Northwest Regional Office

Regional Forester decisions on Oregon National Forests

The Oregonian, Portland, Oregon

Regional Forester decisions on Washington National Forests

The Seattle Times, Seattle, Washington

Columbia River Gorge National Scenic Area Manager decisions

Hood River News, Hood River, Oregon

Oregon National Forests

Deschutes National Forest

Forest Supervisor decisions

Bend/Fort Rock District Ranger decisions

Crescent District Ranger decisions

Redmond Air Center Manager decisions

Sisters District Ranger decisions

The Bulletin, Bend, Oregon

Fremont-Winema National Forests

Forest Supervisor decisions

Bly District Ranger decisions

Lakeview District Ranger decisions

Paisley District Ranger decisions

Silver Lake District Ranger decisions

Chemult District Ranger decisions

Chiloquin District Ranger decisions

Klamath District Ranger decisions

Herald and News, Klamath Falls, Oregon

Malheur National Forest

Forest Supervisor decisions

Blue Mountain District Ranger decisions

Prairie City District Ranger decisions

Blue Mountain Eagle, John Day, Oregon

Emigrant Creek District Ranger decisions

Burns Times Herald, Burns, Oregon

Mt. Hood National Forest

Forest Supervisor decisions

Clackamas River District Ranger decisions

Zigzag District Ranger decisions

Hood River District Ranger decisions

Barlow District Ranger decisions

The Oregonian, Portland, Oregon

Ochoco National Forest

Forest Supervisor decisions

Crooked River National Grassland Area Manager decisions

Lookout Mountain District Ranger decisions

Paulina District Ranger decisions

The Bulletin, Bend, Oregon

Rogue River-Siskiyou National Forests

Forest Supervisor decisions

High Cascades District Ranger decisions

J. Herbert Stone Nursery Manager decisions

Siskiyou Mountains District Ranger decisions

Mail Tribune, Medford, Oregon

Wild Rivers District Ranger decisions

Grants Pass Daily Courier, Grants Pass, Oregon

Gold Beach District Ranger decisions

Curry County Reporter, Gold Beach, Oregon

Powers District Ranger decisions

The World, Coos Bay, Oregon

Siuslaw National Forest

Forest Supervisor decisions

Corvallis Gazette-Times, Corvallis, Oregon

Central Coast Ranger District—Oregon Dunes National Recreation Area District Ranger decisions

The Register-Guard, Eugene, Oregon

Hebo District Ranger decisions

Tillamook Headlight Herald, Tillamook, Oregon

Umatilla National Forest

Forest Supervisor decisions

North Fork John Day District Ranger decisions

Heppner District Ranger decisions

Pomeroy District Ranger decisions

Walla Walla District Ranger decisions

East Oregonian, Pendleton, Oregon

Umpqua National Forest

Forest Supervisor decisions

Cottage Grove District Ranger decisions

Diamond Lake District Ranger decisions

North Umpqua District Ranger decisions

Tiller District Ranger decisions

Dorena Genetic Resource Center Manager decisions

The News-Review, Roseburg, Oregon

Wallowa-Whitman National Forest

Forest Supervisor decisions

Whitman District Ranger decisions

Baker City Herald, Baker City, Oregon

La Grande District Ranger decisions

The Observer, La Grande, Oregon

Hells Canyon National Recreation Area Manager decisions

Eagle Cap District Ranger decisions

Wallowa Valley District Ranger decisions

Wallowa County Chieftain, Enterprise, Oregon

Willamette National Forest

Forest Supervisor decisions

Middle Fork District Ranger decisions

McKenzie River District Ranger decisions

Sweet Home District Ranger decisions

The Register Guard, Eugene, Oregon

Detroit District Ranger decisions

Statesman Journal, Salem, Oregon

Washington National Forests

Colville National Forest

Forest Supervisor decisions

Three Rivers District Ranger decisions

Statesman-Examiner, Colville, Washington

Sullivan Lake District Ranger decisions

Newport District Ranger decisions

The Newport Miner, Newport, Washington

Republic District Ranger decisions

Ferry County View, Republic, Washington

Gifford Pinchot National Forest

Forest Supervisor decisions

Mount Adams District Ranger decisions

Mount St. Helens National Volcanic Monument Manager decisions

The Columbian, Vancouver, Washington

Cowlitz Valley District Ranger decisions

The Chronicle, Chehalis, Washington

Mt. Baker-Snoqualmie National Forest

Forest Supervisor decisions

Darrington District Ranger decisions

Skykomish District Ranger decisions

Everett Herald, Everett, Washington

Mt. Baker District Ranger decisions

Skagit Valley Herald, Mt. Vernon, Washington

Snoqualmie District Ranger decisions (north half of district)

Snoqualmie Valley Record, North Bend, Washington

Snoqualmie District Ranger decisions (south half of district)

Enumclaw Courier Herald, Enumclaw, Washington

Okanogan-Wenatchee National Forests

Forest Supervisor decisions

Chelan District Ranger decisions

Entiat District Ranger decisions

Methow Valley District Ranger decisions

Tonasket District Ranger decisions

Wenatchee River District Ranger decisions

The Wenatchee World, Wenatchee, Washington

Naches District Ranger decisions

Yakima Herald, Yakima, Washington

Cle Elum District Ranger decisions

Ellensburg Daily Record, Ellensburg, Washington

Olympic National Forest

Forest Supervisor decisions

The Olympian, Olympia, Washington

Hood Canal District Ranger decisions

Peninsula Daily News, Port Angeles, Washington

Pacific District Ranger decisions (south portion of district)

The Daily World, Aberdeen, Washington

Pacific District Ranger decisions (north portion of district)

Peninsula Daily News, Port Angeles, Washington

Dated: November 21, 2013.
Kent P. Connaughton,
Regional Forester.

[FR Doc. 2013-28996 Filed 12-12-13; 11:15 am]

BILLING CODE 3410-11-P